DEPARTMENT OF THE TREASURY

Submission for OMB Review; Comment Request

AGENCY: Department of the Treasury.

ACTION: Notice.

The Department of the Treasury will submit the following information collection request to the Office of Management and Budget (OMB) for review and clearance in accordance with the Paperwork Reduction Act of 1995, Public Law 104-13, on or after the date of publication of this notice.

DATES: Comments should be received on or before June 26, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission may be obtained by emailing PRA@treasury.gov, or viewing the entire information collection request at www.reginfo.gov.

SUPPLEMENTARY INFORMATION:

Alcohol and Tobacco Tax and Trade Bureau (TTB)

OMB Number: 1513-0026.

Type of Review: Revision of a currently approved collection.

Title: Claim for Drawback of Tax on Tobacco Products, Cigarette Papers, and Cigarette Tubes.

Form: TTB F 5620.7.

Abstract: Respondents use TTB F 5620.7 to document the export of, and to claim drawback of the Federal excise tax paid on, tobacco products, cigarette papers, and cigarette tubes exported to a foreign country, Puerto Rico, or the Virgin Islands after tax payment.

Affected Public: Private Sector: Businesses or other for-profits.

Estimated Annual Burden Hours: 97.

OMB Number: 1513-0112.

Type of Review: Revision of a currently approved collection.

Title: Special (Occupational) Tax Registration and Return.

Form: TTB F 5630.5a, 5630.5d, and 5630.5t.

Abstract: Chapter 52 of the Internal Revenue Code (26 U.S.C.) requires tobacco products manufacturers, cigarette papers and tubes manufacturers, and tobacco product export warehouse proprietors to register for and pay special (occupational) tax (SOT). TTB F 5630.5t is used for registration and tax payment for such businesses. With regard to alcohol, in 2005, section 11125 of Public Law 109-59 permanently repealed, effective July 1, 2008, the SOT on all alcohol dealers required by chapter 51 of the Internal Revenue Code (26 U.S.C.). However, the registration requirement for such entities remains in force. TTB F 5630.5a is a tax return/registration for persons already in business who failed to register or pay SOT on or before June 30, 2008, and TTB F 5630.5d is used to register alcohol dealers on and after July 1, 2008.

Affected Public: Private Sector: Businesses or other for-profits, Not-for-profit institutions; Individuals or Households.

Estimated Annual Burden Hours: 3,478.

Dated: May 21, 2015.
Dawn D. Wolfgang,
Treasury PRA Clearance Officer.

[FR Doc. 2015-12725 Filed 5-26-15; 8:45 am]

BILLING CODE 4810-31-P